DEPARTMENT OF COMMERCE

National Oceanic and Atmospheric Administration

[I.D. 092705C]

Fisheries of the Caribbean, Gulf of Mexico, and South Atlantic; Amendments 14 and 15 to the Fishery Management Plan for the Shrimp Fishery of the Gulf of Mexico and Amendments 27 and 28 to the Fishery Management Plan for the Reef Fish Resources of the Gulf of Mexico; Scoping Meetings

AGENCY: National Marine Fisheries Service (NMFS), National Oceanic and Atmospheric Administration (NOAA), Commerce.

ACTION: Notice; intent to prepare draft supplemental environmental impact statements (DSEISs), scoping meetings, request for comments.

SUMMARY: The Gulf of Mexico Fishery Management Council (Council) previously published a notice of intent in the Federal Register (70 FR 57859, October 5, 2005) to prepare a DSEIS for a joint Amendment 14 to the Fishery Management Plan (FMP) for the Shrimp Fishery of the Gulf of Mexico (Shrimp FMP) and Amendment 27 to the FMP for the Reef Fish Resources of the Gulf of Mexico (Reef Fish FMP). This notice supplements the previous notice and provides notice of the Council's intent to prepare a second DSEIS for a subsequent joint Amendment 15 to the Shrimp FMP and Amendment 28 to the Reef Fish FMP. The alternatives in the two joint amendments will consider measures to reduce red snapper fishing mortality and bycatch in the shrimp and reef fish fisheries, and to achieve optimum yield (OY) in the shrimp fishery. The purpose of this notice of intent is to solicit public comments on the scope of issues to be addressed in the DSEISs.

DATES: Written comments must be received by February 9, 2006.

The meetings will be held in January 2006. See SUPPLEMENTARY INFORMATION for specific dates and times.

ADDRESSES: Written comments on the scope of the DSEISs, and requests for additional information on the joint amendments, should be sent to the Gulf of Mexico Fishery Management Council, 2203 North Lois Avenue, Suite 1100, Tampa, FL 33607; phone: 813-348-1630; fax: 813-348-1711. Comments may also be sent by e-mail to: rick.leard@gulfcouncil.org.

The locations of all scoping meetings are provided under the SUPPLEMENTARY INFORMATION section of this notice.

FOR FURTHER INFORMATION CONTACT: Rick Leard by phone: 813-348-1630, by fax: 813-348-1711, or by e-mail: rick.leard@gulfcouncil.org.

SUPPLEMENTARY INFORMATION: Shrimp and reef fish in the Gulf of Mexico are managed under their respective FMPs. Both fisheries contribute to fishing mortality of red snapper.

Age 0 and Age 1 red snapper are taken by shrimp trawls, and Age 2 and older red snapper are caught in the directed commercial and recreational red snapper fishery. Because red snapper are overfished and are undergoing overfishing, reducing fishing mortality on these younger age classes is needed to help rebuild the stock. Actions to reduce bycatch of red snapper are anticipated to reduce bycatch fishing mortality for other reef fish species as well.

The Council previously published a notice in the Federal Register (70 FR 57859, October 5, 2005) announcing its intent to prepare a DSEIS for an action to jointly amend its Shrimp and Reef Fish FMPs. The Council currently is considering dividing the actions into two separate joint amendments: Shrimp Amendment 14/Reef Fish Amendment 27, and Shrimp Amendment 15/Reef Fish Amendment 28. Therefore, the Council will develop a DSEIS for each joint amendment. The DSEISs will describe and analyze management alternatives to reduce fishing mortality on red snapper in the shrimp and reef fish fisheries, and to achieve OY in the shrimp fishery. Alternatives for the joint Shrimp Amendment 14/Reef Fish Amendment 27 focus on, but are not limited to, alternatives to reduce fishing mortality and bycatch of red snapper in the directed reef fish fishery. These actions include possible adjustments to the total allowable catch for red snapper, and a suite of harvesting restrictions, such as size limits, bag limits, or gear restrictions for the directed recreational and commercial red snapper fisheries. Additional actions will consider alternatives to develop the basis for a long-term shrimp effort management strategy to be established in the second joint amendment, and to update the certification criterion for shrimp trawl bycatch reduction devices.

The second document, a joint Shrimp Amendment 15/Reef Fish Amendment 28, will focus on, but not be limited to, alternatives to restrict shrimp fishing effort to achieve OY, such as gear restrictions, limitations on permit transferability, quotas, vessel monitoring systems, and possible time-area closures for the shrimp fishery. Other actions will consider additional harvesting restrictions for the directed reef fish fisheries, including time-area closures.

The Council has scheduled the following 10 scoping meetings to provide the opportunity for additional public input: The scoping hearings will begin at 7 p.m. local time, and conclude at the end of public testimony or no later than 10 p.m. at each of the following locations:

1. Monday, January 23, 2006, Four Points by Sheraton, 3777 North Expressway, Brownsville, TX 78520, 956-547-1500;

2. Monday, January 23, 2006, Holiday Inn Mobile I-10 Bellingrath Gardens, 5465 Highway 90 West, Mobile, AL 36619, 251-666-5600;

3. Tuesday, January 24, 2006, University of Texas Marine Science Institute Auditorium, 750 Channel View Drive, Port Aransas, TX 78373, 361-749-6711;

4. Tuesday, January 24, 2006, LaFont Inn, 2703 Denny Avenue, Pascagoula, MS 39567, 228-762-7111;

5. Wednesday, January 25, 2006, Holiday Inn Galveston, 5002 Seawall Boulevard, Galveston, TX 77550, 409-740-3581;

6. Wednesday, January 25, 2006, Hilton Garden Inn Orange Beach, 23092 Perdido Beach Boulevard, Orange Beach, AL 36561, 251-974-1600;

7. Thursday, January 26, 2006, Larose Regional Park Gym, 307 East 5th Street, Larose, LA 70373, 985-693-7355;

8. Thursday, January 26, 2006, National Marine Fisheries Service Laboratory, 3500 Delwood Beach Road, Panama City, FL 32408, 850-234-6541;

9. Monday, January 30, 2006, Tampa Marriott Westshore, 1001 North Westshore Boulevard, Tampa, FL 33607, 813-287-2555; and

10. Tuesday, January 31, 2006, DoubleTree Grand Key Resort, 3990 South Roosevelt Boulevard, Key West, FL 33040, 305-293-1818.

In accordance with NOAA Administrative Order (NAO) 216-6, Section 5.02(c), the Council has identified this preliminary range of alternatives as a means to initiate discussion for scoping purposes only. This may not represent the full range of alternatives that eventually will be evaluated by the Council.

Once the Council completes the DSEISs associated with the joint amendments to the Shrimp and Reef Fish FMPs, it will submit the documents to NMFS for filing with the Environmental Protection Agency (EPA). The EPA will publish a notice of availability of the DSEISs for public comment in the Federal Register. The DSEISs will have a 45-day comment period. This procedure is pursuant to regulations issued by the Council on Environmental Quality (CEQ) for implementing the procedural provisions of the National Environmental Policy Act (NEPA; 40 CFR parts 1500-1508) and to NOAA Administrative Order 216-6 regarding NOAA's compliance with NEPA and the CEQ regulations.

The Council will consider public comments received on the DSEISs in developing the final supplemental environmental impact statements (FSEISs) and before adopting final management measures for the joint amendments. The Council will submit both the final amendments and the supporting FSEISs to NMFS for review by the Secretary of Commerce (Secretary) under the Magnuson-Stevens Fishery Conservation and Management Act.

NMFS will announce, through a notice published in the Federal Register, the availability of the final joint amendments for public review during their respective Secretarial review periods. During Secretarial review, NMFS will also file the FSEISs with the EPA for a final 30-day public comment period. These comment periods will be concurrent with the Secretarial review periods and will end prior to final agency action to approve, disapprove, or partially approve the final joint amendments.

NMFS will announce, through a notice published in the Federal Register, all public comment periods on the final joint amendments and the proposed implementing regulations. The EPA will publish a notice of availability of the associated FSEISs for public comment in the Federal Register. NMFS will consider all public comments received during the respective Secretarial review periods, whether they are on the final amendments, the proposed regulations, or the FSEISs, prior to final agency action.

Dated: January 5, 2006.
John H. Dunnigan,
Director, Office of Sustainable Fisheries, National Marine Fisheries Service.

[FR Doc. 06-206 Filed 1-5-06; 2:43 pm]

BILLING CODE 3510-22-S